DEPARTMENT OF TRANSPORTATION

Federal Railroad Administration

49 CFR Parts 222 and 229

[Docket No. FRA-1999-6439, Notice No. 2]

RIN 2130-AA71

Use of Locomotive Horns at Highway-Rail Grade Crossings

AGENCY: Federal Railroad Administration (FRA), Department of Transportation (DOT).

ACTION: Proposed rule; notification of congressional contacts.

SUMMARY: On January 13, 2000, FRA published in the Federal Register a Notice of Proposed Rulemaking (NPRM) regarding the use of locomotive horns at highway-rail grade crossings (65 FR 2230). This document provides information pertaining to contacts that FRA officials have had with various with members of Congress regarding the NPRM.

ADDRESSES: The public docket is available at DOT's Docket Management Facility at room PL-401, 400 7th Street, SW., Washington, DC 20590. All documents are also available at the docket facilities web site at http://dms.dot.gov.

FOR FURTHER INFORMATION CONTACT: Mark H. Tessler, Office of Chief Counsel, FRA, 1120 Vermont Avenue, NW., Washington, DC 20590 (telephone: 202-493-6061).

SUPPLEMENTARY INFORMATION:

Backgrounds

Congressional Meeting

In the NPRM published on January 13, 2000, FRA established a comment period during which the public could provide its views on the NPRM. FRA stated: “Comments must be received by May 26, 2000. Comments received after that date will be considered to the extent possible without incurring additional expense or delay.”

On June 22, 2000, Federal Railroad Administrator Jolene Molitoris met with certain members of Congress at their request to discuss the pending rulemaking. At the meeting, attended by Administrator Molitoris, FRA Chief Counsel S. Mark Lindsey, Speaker Dennis Hastert, Senator Richard Durbin, and Representatives William Lipinski, Judy Biggert, and John Porter, the FRA officials received a proposal from the Members concerning the proposed locomotive horn rule.

A summary of the discussion, together with the proposal presented to the Administrator has been placed in the public docket of this proceeding and is identified as Document Number 2316 of Docket No. FRA-1999-6439. This document, together with all other documents contained in the public docket is available at DOT's Docket Management Facility at room PL-401, 400 7th Street, SW., Washington, DC 20590. All documents are also available at the docket facilities web site at http://dms.dot.gov.

Congressional Hearing

On July 18, 2000, Deputy Administrator John V. Wells testified before the House Subcommittee on Ground Transportation of the Committee on Transportation and Infrastructure regarding the NPRM. FRA will submit to the docket a copy of the transcript of that hearing when it is made available to FRA.

Issued in Washington, DC, on July 25, 2000.
S. Mark Lindsey,
Chief Counsel.

[FR Doc. 00-19397 Filed 7-31-00; 8:45 am]

BILLING CODE 4910-06-M